NATIONAL AERONAUTICS AND SPACE ADMINISTRATION

[Notice11-084]

NASA Advisory Council; Science Committee; Meeting

AGENCY: National Aeronautics and Space Administration.

ACTION: Notice of meeting.

SUMMARY: In accordance with the Federal Advisory Committee Act, Public Law 92-462, as amended, the National Aeronautics and Space Administration (NASA) announces a meeting of the Science Committee of the NASA Advisory Council (NAC). This Committee reports to the NAC. The meeting will be held for the purpose of soliciting, from the scientific community and other persons, scientific and technical information relevant to program planning.

DATES: Monday, October 31, 8:30 a.m. to 4 p.m., Local Time, and Tuesday, November 1, 2011, 8:30 a.m. to 2 p.m., Local Time.

ADDRESSES: NASA Headquarters, 300 E Street, SW., Room 3H46, Washington, DC 20546.

FOR FURTHER INFORMATION CONTACT: Ms. Marian Norris, Science Mission Directorate, NASA Headquarters, Washington, DC 20546, (202) 358-4452, fax (202) 358-1377, or mnorris@nasa.gov.

SUPPLEMENTARY INFORMATION: The meeting will be open to the public up to the capacity of the room. This meeting is also available telephonically and by WebEx. Any interested person may call the USA toll free conference call number 888-989-4491, pass code Science Committee, to participate in this meeting by telephone. The WebEx link is https://nasa.webex.com/, meeting number on October 31 is 993 667 684, and password Science@Oct31; the meeting number on November 1 is 994 724 148, and password .Science@Nov1. The agenda for the meeting includes the following topics:

—Program and Subcommittee Updates.

—James Webb Space Telescope Program Replan.

It is imperative that the meeting be held on these dates to accommodate the scheduling priorities of the key participants. Attendees will be requested to sign a register and to comply with NASA security requirements, including the presentation of a valid picture ID to Security before access to NASA Headquarters. Foreign nationals attending this meeting will be required to provide a copy of their passport, visa, or resident alien card in addition to providing the following information no less than 10 working days prior to the meeting: full name; gender; date/place of birth; citizenship; visa/green card information (number, type, expiration date); passport information (number, country, expiration date); employer/affiliation information (name of institution, address, country, telephone); title/position of attendee; home address; driver's license number and state of issue; and Social Security number to Marian Norris via e-mail at mnorris@nasa.gov or by fax at (202) 358-1377. U.S. citizens are requested to submit their name and affiliation 3 working days prior to the meeting to Marian Norris.

Dated: September 20, 2011.
P. Diane Rausch,
Advisory Committee Management Officer, National Aeronautics and Space Administration.

[FR Doc. 2011-24684 Filed 9-23-11; 8:45 am]

BILLING CODE 7510-13-P